DEPARTMENT OF COMMERCE

National Oceanic and Atmospheric Administration

RIN 0648-XC548

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Standing, Special Mackerel and Ecosystem Scientific and Statistical Committees.

DATES: The meeting will convene at 8:30 a.m. on Wednesday, March 27, 2013 and conclude by 5 p.m. Thursday, March 28, 2013.

ADDRESSES: The meeting will be held at the Grand Hyatt Tampa Bay Hotel, 2900 Bayport Drive, Tampa, FL 33607; telephone: (813) 874-1234.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing and Special Mackerel SSC will meet jointly on Wednesday, March 27, 2013 to review benchmark stock assessments and recommend acceptable biological catch (ABC) for cobia and Spanish mackerel. On Thursday, March 28, 2013, the Standing and Ecosystem SSC meeting will meet jointly to receive a presentation on a multidisciplinary, multi-year Integrated Ecosystems Assessment (IEA) project being conducted by the Southeast Fisheries Science Center. The presentation will review (1) the Gulf of Mexico IEA Program in general, (2) the Gulf of Mexico Ecosystem Status Report, and (3) aspects of the ecosystem modeling effort. The Standing SSC will then meet on Thursday afternoon to discuss ABC Control Rule revisions and review the SEDAR assessment schedule and priorities.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

This meeting is physically accessible to people with disabilities. Requests for sign language interpretation or other auxiliary aids should be directed to Kathy Pereira at the Council (see ADDRESSES) at least 5 working days prior to the meeting.

Dated: March 7, 2013.
Tracey L. Thompson,
Acting Deputy Director, Office of Sustainable Fisheries, National Marine Fisheries Service.

[FR Doc. 2013-05586 Filed 3-11-13; 8:45 am]

BILLING CODE 3510-22-P